DEPARTMENT OF EDUCATION

[CFDA Nos. 84.305A, 84.305B, 84.305E, 84.305F, 84.305G, 84.305H, 84.305K, 84.305M, and 84.902B]

Institute of Education Sciences; Notice Inviting Applications for Grants To Support Education Research for Fiscal Year (FY) 2005

SUMMARY: The Director of the Institute of Education Sciences (Institute) announces ten FY 2005 competitions for grants to support education research. The Director takes this action under the Education Sciences Reform Act of 2002 (Act), Title I of Public Law 107-279. The intent of these grants is to provide national leadership in expanding fundamental knowledge and understanding of education from early childhood education through postsecondary study.

SUPPLEMENTARY INFORMATION: Mission of Institute: A central purpose of the Institute is to provide parents, educators, students, researchers, policymakers, and the general public with reliable information about education practices that support learning and improve academic achievement and access to education opportunities for all students. In carrying out its mission, the Institute provides support for programs of research in areas of demonstrated national need.

Competitions in This Notice: The Institute currently plans to support the following competitions in FY 2005:

• National Research and Development Centers. These centers will focus on Assessment, Education Policy, Early Childhood Education, and English Language Learners;

• Post-doctoral Research Fellowships;

• Reading Comprehension and Reading Scale-up Research;

• Cognition and Student Learning Research;

• Mathematics and Science Education Research;

• Teacher Quality Research with a Focus on Reading;

• Teacher Quality Research with a Focus on Mathematics and Science;

• Research on Education Finance, Leadership, and Management;

• Secondary Analysis of Data from the National Assessment of Educational Progress; and

• Field-Initiated Evaluations of Education Innovations.

Eligible Applicants: Applicants that have the ability and capacity to conduct scientifically valid research are eligible to apply. Eligible applicants include, but are not limited to, non-profit and for-profit organizations and public and private agencies and institutions, such as colleges and universities.

Request for Applications and Other Information: Information regarding program and application requirements for each of the Institute's competitions is contained in the applicable Request for Applications package (RFA), which will be available at the following Web site: http://www.ed.gov/programs/edresearch/applicant.html on the dates indicated in the chart printed elsewhere in this notice. Interested potential applicants should periodically check the Institute's Web site.

Information regarding selection criteria and review procedures will also be posted at this Web site.

Fiscal Information: Although Congress has not enacted a final appropriation for FY 2005, the Institute is inviting applications for these competitions now so that it may be prepared to make awards following final action on the Department's appropriations bill. The President's FY 2005 Budget for the Institute includes sufficient funding for all of the competitions included in this notice. The actual award of grants is pending the availability of funds. The number of awards made under each competition will depend upon the quality of the applications received for that competition. The size of the awards will depend upon the scope of the projects proposed.

Applicable Regulations: The Education Department General Administrative Regulations (EDGAR) in 34 CFR parts 74, 77, 80, 81, 82, 84, 85, 86 (part 86 applies only to institutions of higher education), 97, 98, and 99. In addition 34 CFR part 75 is applicable, except for the provisions in 34 CFR 75.100, 75.101(b), 75.102, 75.103, 75.105, 75.109(a), 75.200, 75.201, 75.209, 75.210, 75.211, 75.217, 75.219, 75.220, 75.221, 75.222, and 75.230.

Performance Measures

To evaluate the overall success of its education research program, the Institute annually assesses the quality and relevance of newly funded research projects, as well as the quality of research publications that result from its funded research projects. Two indicators address the quality of new projects. First, an external panel of eminent senior scientists reviews the quality of a randomly selected sample of newly funded research applications, and the percentage of new projects that are deemed to be of high quality is determined. Second, because much of the Institute's work focuses on questions of effectiveness, newly funded applications are evaluated to identify those that address causal questions and then to determine what percentage of those projects use randomized field trials to answer the causal questions. To evaluate the relevance of newly funded research projects, a panel of experienced education practitioners and administrators reviews descriptions of a randomly selected sample of newly funded projects and rates the degree to which the projects are relevant to educational practice.

Two indicators address the quality of new research publications, both print and web-based, which are the products of funded research projects. First, an external panel of eminent scientists reviews the quality of a randomly selected sample of new publications, and the percentage of new publications that are deemed to be of high quality is determined. Second, publications that address causal questions are identified, and are then reviewed to determine the percentage that employ randomized experimental designs. As funded research projects are completed, the Institute will subject the final reports to similar reviews.

To evaluate impact, the Institute surveys a random sample of K-16 policymakers and administrators once every 3 years to determine the percentage who report routinely considering evidence of effectiveness before adopting educational products and approaches.

Application Procedures

The Government Paperwork Elimination Act (GPEA) of 1998 (Pub. L. 105-277) and the Federal Financial Assistance Management Improvement Act of 1999 (Pub. L. 106-107) encourage us to undertake initiatives to improve our grant processes. Enhancing the ability of individuals and entities to conduct business with us electronically is a major part of our response to these Acts. Therefore, we are taking steps to adopt the Internet as our chief means of conducting transactions in order to improve services to our customers and to simplify and expedite our business processes.

We are requiring that applications for the FY 2005 competitions be submitted electronically to the following Web site: http://ies.constellagroup.com. Information on the software to be used in submitting applications will be available at the same Web site.

FOR FURTHER INFORMATION CONTACT: The contact person associated with a particular program of research is listed in the following chart and in the particular RFA. The date on which applications will be available, the deadline for transmittal of applications, the estimated range of awards, and the project period are also listed in the chart and in the particular RFA that will be posted at: http://www.ed.gov/programs/edresearch/applicant.html.

CFDA number and name | Applications available | Deadline for transmittal of applications | Estimated range of awards* | Project period | For further information contact
84.305G Reading Comprehension and Reading Scale-up Research | July 9, 2004 | October 28, 2004 | $150,000 to $1,200,000 | Up to 5 years | Elizabeth Albro; Elizabeth.Albro@ed.gov.
84.305K Mathematics and Science Education Research | July 9, 2004 | October 28, 2004 | $150,000 to $1,200,00 | Up to 5 years | Diana Cordova; Diana.Cordova@ed.gov.
84.902B Secondary Analysis of National Assessment of Educational Progress Data | July 9, 2004 | October 28, 2004 | $65,000 to $100,000 | Up to 18 months | Alexandra Sedlacek; Alexandra.Sedlacek@ed.gov.
84.305A National Research and Development Centers | July 9, 2004 | Novemberr 18, 2004 | $1,000,000 to $2,000,000 | Up to 5 years | Michael Wiatrowski; Michael.Wiatrowski@ed.gov.
84.305B Post-doctoral Research Fellowships | July 9, 2004 | Novemberr 18, 2004 | Up to $200,000 | Up to 5 years | James Griffin; James.Griffin@ed.gov.
84.305M Teacher Quality Research—Reading | August 6, 2004 | December 2, 2004 | $150,000 to $1,200,000 | Up to 5 years | Harold Himmelfarb; Harold.Himmelfarb@ed.gov.
84.305M Teacher Quality Research—Mathematics and Science | August 6, 2004 | December 2, 2004 | $150,000 to $1,200,000 | Up to 5 years | Harold Himmelfarb; Harold.Himmelfarb@ed.gov.
84.305E Research on Education, Finance, Leadership, and Management | August 6, 2004 | December 16, 2004 | $100,000 to $750,000 | Up to 4 years | Jon Oberg; Jon.Oberg@ed.gov.
84.305H Cognition and Student Learning Research | August 6, 2004 | December 16, 2004 | $150,000 to $350,000 | Up to 3 years | Elizabeth Albro; Elizabeth.Albro@ed.gov.
84.305F Field-Initiated Evaluations of Education Innovations | August 6, 2004 | December 16, 2004 | $150,000 to $1,200,000 | Up to 5 years | Stefanie Schmidt; Stefanie.Schmidt@ed.gov.
*These estimates are annual amounts.

Note: The Department is not bound by any estimates in this notice.

If you use a telecommunications device for the deaf (TDD), you may call the Federal Information Relay Service (FIRS) at 1-800-877-8339.

Individuals with disabilities may obtain this document in an alternative format (e.g., Braille, large print, audiotape, or computer diskette) on request to the program contact person listed under FOR FURTHER INFORMATION CONTACT. Individuals with disabilities may obtain a copy of the RFA in an alternative format by contacting that person.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: www.gpoaccess.gov/nara/index.html.

Program Authority: 20 U.S.C. 9501 et seq. (the “Education Sciences Reform Act of 2002”, Title I of Public Law 107-279, November 5, 2002).

Dated: June 25, 2004.
Grover J. Whitehurst,
Director, Institute of Education Sciences.

[FR Doc. 04-14988 Filed 6-30-04; 8:45 am]

BILLING CODE 4000-01-U